DEPARTMENT OF HEALTH AND HUMAN SERVICES

Centers for Disease Control and Prevention

[30Day-11-11HJ]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Comparing the Effectiveness of Traditional Evidence-Based Tobacco Cessation Interventions to Newer and Innovative Interventions Used by Comprehensive Cancer Control Programs—New—National Center for Chronic Disease Prevention and Health Promotion, Centers for Disease Control and Prevention (CDC).

Background and Brief Description

The Centers for Disease Control and Prevention (CDC) provides funding and technical assistance for tobacco control through Tobacco Control Programs (TCPs), which offer evidence-based cessation interventions to increase successful quit attempts. CDC also supports Comprehensive Cancer Control (CCC) programs, which address cancer-related interventions from primary prevention to treatment and survivorship. TCPs and CCC programs are based in states, the District of Columbia, Tribal organizations, and U.S. territories.

Evidence-based tobacco cessation interventions include counseling offered through telephone quitlines (QLs) as well as Web-based counseling services. Mass media (e.g., television, radio, print) has been shown to be the most important and consistent driver of call volume to QLs in some localities, but is resource intensive. To date there are no comprehensive studies that have examined TCP promotional strategies, the populations affected by these strategies, and their effect on QL and Web-based cessation program usage.

To address this gap in knowledge, CDC proposes to conduct a new study of state-based TCPs and their client populations. The study will consist of two components: (1) Quitline promotional activities, and (2) cessation intervention. The promotional activities component involves secondary analysis of information already collected by TCPs and CCC programs. The cessation intervention component involves new information collection.

Quitline Promotional Activities. The overall goal of this study component is to characterize state-based TCP promotional activities in terms of type and level of advertising; impact in relation to QL call volume; and client characteristics. Up to 50 state-based TCPs will be asked to participate. Existing sources of information will be used to minimize burden to respondents. Participating states will provide CDC with media purchasing information related to cessation promotional activities and permission to extract de-identified QL call volume data from the National Quitline Data Warehouse (NQDW, OMB No. 0920-0856, exp. 7/31/2012). Information will be transmitted to CDC on a quarterly basis. The estimated burden for each electronic transmission is 10 minutes.

Cessation Intervention. The overall goal of this study component is to describe relationships among mode of cessation service delivery (telephone vs. Web); client demographics; and quit success in the last 30 days. Participating TCPs in up to four states will use existing sources of information to produce study files containing client intake data, i.e., information obtained from clients when they request tobacco cessation services through a telephone Quitline or a Web-based service. TCPs will transmit intake information to CDC four times per year. The estimated burden of each transmission is 15 minutes.

CDC also plans to conduct a follow-up data collection with a total of 8,000 individuals aged ≥ 18 years who have voluntarily agreed to participate in the study (4,000 clients who use QL services and 4,000 clients who use Web-based services). The 15-minute follow-up survey will be administered online or by telephone. Clients who choose not to participate in the study will receive regular access to QL or Web-based cessation services.

The results of this study will provide TCPs, policy makers, CDC, and others with information about the impact of promotional activities and the comparative effectiveness of traditional versus new and innovative cessation services. This study is funded through the American Reinvestment and Recovery Act (ARRA).

Information will be collected over a 24-month period. OMB approval is requested for two and one-half years to permit flexibility in scheduling start and stop dates. There are no costs to respondents other than their time. The total estimated annualized burden hours are 1,037.

Estimated Annualized Burden Hours
Type of respondent | Form name | Number of respondents | Number of responses per respondent | Average burden per response (in hr)
Tobacco Control Programs | Quitline Promotion Activities Data | 50 | 4 | 10/60
| Intake Data for QL Clients | 2 | 4 | 15/60
| Intake Data for Web Services Clients | 2 | 4 | 15/60
Quitline Clients | Follow-up Survey for QL Clients | 2,000 | 1 | 15/60
Web Services Clients | Follow-up Survey for Web Clients | 2,000 | 1 | 15/60

Dated: August 15, 2011.
Daniel Holcomb,
Reports Clearance Officer, Centers for Disease Control and Prevention.

[FR Doc. 2011-21204 Filed 8-18-11; 8:45 am]

BILLING CODE 4163-18-P